DEPARTMENT OF ENERGY

Federal Energy Regulatory Commission

[Project No. 12711-004]

Cobscook Bay OCGen™ Power; Notice of Preliminary Permit Application Accepted for Filing and Soliciting Comments, Motions To Intervene, and Competing Applications

September 24, 2010.

On July 1, 2010, ORPC Maine, LLC (ORPC Maine) filed an application for a preliminary permit, pursuant to section 4(f) of the Federal Power Act, proposing to study the feasibility of the Cobscook Bay OCGen™ Power Project, located in the Cobscook Bay, near the City of Eastport, Washington County, Maine. The sole purpose of a preliminary permit, if issued, is to grant the permit holder priority to file a license application during the permit term. A preliminary permit does not authorize the permit holder to perform any land-disturbing activities or otherwise enter upon lands or waters owned by others without the owners' express permission.

The proposed project would consist of: (1) 5 TidGen™ hydrokinetic tidal devices each consisting of a bottom support frame and a single 150-kilowatt turbine generator unit for a combined capacity of 750 kilowatts; (2) a 4,530-foot-long submersible cable connecting the turbine-generating units of each device to a shore station; (3) a 100-foot-long, 13-kilovolt transmission line connecting the shore station to an existing distribution line; and (4) appurtenant facilities. The estimated annual generation of the Cobscook Bay OCGen Power Project would be 1.95 to 2.48 gigawatt-hours.

Applicant Contact: Christopher R. Sauer, President and CEO, Ocean Renewable Power Company, LLC, 120 Exchange Street, Suite 508, Portland, Maine 04101; phone: (207) 772-7707.

FERC Contact: Michael Watts, 202-502-6123.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-12711) in the docket number field to access the document. For assistance, contact FERC Online Support.

Kimberly D. Bose,
Secretary.

[FR Doc. 2010-24933 Filed 10-4-10; 8:45 am]

BILLING CODE 6717-01-P